FEDERAL COMMUNICATIONS COMMISSION

47 CFR Part 73

[DA 02-2319; MB Docket No. 02-295; RM-10580]

Radio Broadcasting Services; Gonzales, Louisiana; Hattiesburg, Mississippi; Houma and Westwego, LA

AGENCY: Federal Communications Commission.

ACTION: Proposed rule.

SUMMARY: This Notice of Proposed Rule Making requests comments on a petition for rule making filed jointly on behalf of Capstar TX Limited Partnership, licensee of Station WUSW(FM), Channel 279C, Hattiesburg, Mississisppi, and Clear Channel Radio Licenses, Inc., licensee of Station KFXN(FM), Channel 281C, Houma, Louisiana, (“Joint Petitioners”). The Joint Petitioners propose to downgrade Channel 279C, Station WUSW, to Channel 279C0 and change the community of license of Station WUSW from Hattiesburg, Mississippi, to Westwego, Louisiana. In addition, the Joint Petitioners propose to downgrade Channel 281C, Station KFXN, to Channel 281CO and move Station KFXN from Houma to Gonzales. The coordinates for requested Channel 279C0 at Westwego, Louisiana, are 29-54-52 NL and 89-54-34 WL with a site restriction of 22.5 kilometers (14 miles) east of Westwego. The coordinates for requested Channel 281C0 at Gonzales are 29-52-55 NL and 90-56-07 WL, with a site restriction of 39.5 kilometers (24.6 miles) south of Gonzales.

Joint Petitioner's reallotment proposals for Stations WUSW and KFXN comply with the provisions of Section 1.420(i) of the Commission's Rules, and therefore, the Commission will not accept competing expressions of interest in the use of Channel 279C0 at Westwego, Louisiana, or the use of Channel 281C0 at Gonzales, Louisiana, or require the Joint Petitions to demonstrate the availability of additional equivalent class channels for use by other parties.

DATES: Comments must be filed on or before November 18, 2002, and reply comments on or before December 3, 2002.

ADDRESSES: Secretary, Federal Communications Commission, 445 12th Street, SW., Room TW-A325, Washington, DC 20554. In addition to filing comments with the FCC, interested parties should serve the Joint Petitioners' counsel, as follows: Mark N. Lipp, Esq., J. Thomas Nolan, Esq., and Tamara Y. Brown, Esq., Shook, Hardy & Bacon; 600 14th Street, NW., Suite 800; Washington, DC 20005-2004.

FOR FURTHER INFORMATION CONTACT: R. Barthen Gorman, Media Bureau, (202) 418-2180.

SUPPLEMENTARY INFORMATION: This is a synopsis of the Commission's Notice of Proposed Rule Making, MB Docket No. 02-295, adopted September 11, 2002, and released September 27, 2002. The full text of this Commission decision is available for inspection and copying during regular business hours in the FCC's Reference Information Center at Portals II, 445 12th Street, SW, CY-A257, Washington, DC, 20554. This document may also be purchased from the Commission's duplicating contractors, Qualex International, Portals II, 445 12th Street, SW, Room CY-B402, Washington, DC, 20554, telephone 202-863-2893, facsimile 202-863-2898, or via e-mail qualexint@aol.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. §§ 154, 303, 334, and 336.

§ 73.202 [Amended]

2. Section 73.202(b), the Table of FM Allotments under Louisiana, is amended by adding Gonzales, Channel 281C0, and Westwego, Channel 279CO, and removing Channel 281C at Houma.

3. Section 73.202(b), the Table of FM Allotments under Mississippi, is amended by removing Channel 279C at Hattiesburg.

Federal Communications Commission.
John A. Karousos,
Assistant Chief, Audio Division, Media Bureau.

[FR Doc. 02-26360 Filed 10-16-02; 8:45 am]

BILLING CODE 6712-01-P